DEPARTMENT OF THE TREASURY

Submission for OMB Review; Comment Request

January 17, 2007.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before February 21, 2007 to be assured of consideration.

Internal Revenue Service (IRS)

OMB Number: 1545-0029.

Type of Review: Extension.

Title: Forms 941, 941-PR and 941-SS, Employer's Quarterly Federal Tax Return; American Samoa, Guam, the Commonwealth of the Northern Mariana Islands, and the U.S. Virgin Islands; Schedule B.

Forms: 941, 941-PR, 941-SS.

Description: Form 941 is used by employers to report payments made to employees subject to income and social security/Medicare taxes and the amounts of these taxes. Form 941-PR is used by employers in Puerto Rico to report social security and Medicare taxes only. Form 941-SS is used by employers in the U.S. possessions to report social security and Medicare taxes only. Schedule B is used by employers to record their employment tax liability.

Respondents: Businesses and other for-profit institutions.

Estimated Total Burden Hours: 361,369,544 hours.

OMB Number: 1545-1534.

Type of Review: Extension.

Title: REG-252936-96 (Final) Rewards for Information Relating to Violations of Internal Revenue laws.

Description: The regulations relate to rewards for information that results in the detection and punishment of violations of the Internal Revenue Laws.

Respondents: Individuals or households.

Estimated Total Burden Hours: 30,000 hours.

OMB Number: 1545-1448.

Title: EE-81-88 (Final) Deductions for Transfers of Property.

Type of Review: Extension.

Description: These regulations concern the Secretary's authority to require the filing of an information return under Code section 6041 and expand the requirement to furnish forms to certain corporate service providers.

Respondents: Businesses and other for-profit institutions.

Estimated Total Burden Hours: 1 hour.

OMB Number: 1545-1704.

Title: Revenue Procedure 2000-41 (Change in Minimum Funding Method).

Type of Review: Extension.

Description: This revenue procedure provides a mechanism whereby a plan sponsor or plan administrator may obtain a determination from the Internal Revenue Service that its proposed change in the method of funding its pension plan(s) meets the standards of section 412 of the Internal Revenue Code.

Respondents: Businesses or other for-profit institutions.

Estimated Total Burden Hours: 5,400 hours.

Clearance Officer: Glenn P. Kirkland (202) 622-3428, Internal Revenue Service, Room 6516, 1111 Constitution Avenue, NW., Washington, DC 20224.

OMB Reviewer: Alexander T. Hunt (202) 395-7316, Office of Management and Budget, Room 10235, New Executive Office Building, Washington, DC 20503.

Robert Dahl,
Treasury PRA Clearance Officer.

[FR Doc. E7-824 Filed 1-19-07; 8:45 am]

BILLING CODE 4830-01-P